DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 12/18/2009 Through 1/20/2010
Firm | Address | Date accepted for filing | Products
Air Systems International, Inc. | 829 Juniper Crescent, Chesapeake, VA 23320 | 12/28/2009 | Air Systems manufactures low and high pressure breathing air filtration products, small compressors, industrial vacuums, and portable equipment used in confined spaces such as emergency response equipment and fans and blowers.
E.C. Phillips & Son, Inc | 1775 Tongass Ave., Ketchikan, AK 99901 | 12/29/2009 | Salmon/fresh, whole and frozen fillets. Materials, salmon, water, ice, knives, packaging; Process HG salmon clean package for fresh fish.
ModuForm, Inc | 172 Industrial Road, Fitchburg, MA 01420 | 12/30/2009 | Solid wood furniture, tables, chairs and upholstered seating.
Nutron Manufacturing, Inc | 5 Wisconsin Avenue, Norwich, CT 06360 | 12/30/2009 | Manufacture lighting fixtures. Fabrication, finishing, assembly, warehouse, packaging and shipping.
Quabbin Wire & Cable Co., Inc | 10 Maple Street, Ware, MA 01082 | 12/30/2009 | Wire and electrical current carrying wiring devices.
Euclid Precision Grinding Co., Inc | 4896 E. 345th St., Willoughby, OH 44094 | 12/31/2009 | High precision flat and parallel grinding and abrasive waterjet cutting with emphasis on refractory metals work.
Dutchland Plastics Corp | 54 Enterprise Court, Oostburg, WI 53070 | 12/31/2009 | Blow molded and rotational molded plastic products.
Henson Company, Inc | 8 Corporate Blvd., Sinking Spring, PA 19608 | 1/7/2010 | Custom apparel for the sports industry.
Brusic-Rose, Inc | 7300 S. Central Avenue, Bedford Park, IL 60638 | 1/7/2010 | Private label high-end custom upholstered furniture.
HK Systems | 2855 S. James Drive, New Berlin, WI 53151 | 1/7/2010 | Material handling and logistic systems.
Midwest Tool, Inc | 3637 Enterprise Ave., Joplin, MO 64801 | 1/7/2010 | Fabricated metal products.
Dugas Bower Plating Company | 7965 Main Street, NE., Fridley, MN 55432 | 1/8/2010 | Electroplating services for stamped metal products.
K & S Tool, Die and Manufacturing | N8145 Maple Street, Ixonia, WI 53036 | 1/8/2010 | The firm manufactures metal stamping dies, weldments and fixtures, metal stamped and fabricated parts and assemblies.
Hydraulic Warehouse Inc | 0121 9th St., Lewiston, ID 83501 | 1/8/2010 | Hydraulic pumps and motors.
Scott Lift Truck Corporation | 1400 E. Higgins Road, Elk Grove, IL 60007 | 1/8/2010 | Distributor of material handling products and services, specifically forklifts and storage equipment.
Timesavers, Inc | 11123 89th Ave., Maple Grove, MN 55369 | 1/8/2010 | Industrial sanding and woodworking equipment.
Energy Dynamics, Inc | 5029 Willow Creek Road, Machesney, IL 61115 | 1/14/2010 | Metal machined products for hydraulics.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: January 21, 2010.
Bryan Borlik,
Program Director.

[FR Doc. 2010-1731 Filed 1-27-10; 8:45 am]

BILLING CODE 3510-24-P